NUCLEAR REGULATORY COMMISSION

[NRC-2014-0187]

Treatment of Natural Phenomena Hazards in Fuel Cycle Facilities

AGENCY: Nuclear Regulatory Commission.

ACTION: Generic letter; issuance.

SUMMARY: The U.S. Nuclear Regulatory Commission (NRC) is announcing the availability of final Generic Letter 2015-01, “Treatment of Natural Phenomena Hazards in Fuel Cycle Facilities.” The generic letter requests information from licensees of fuel cycle facilities to demonstrate if compliance is being maintained with the regulatory requirements and applicable license conditions regarding the treatment of natural phenomena events in the facilities' safety assessments, and to determine if additional NRC regulatory action is necessary to ensure that licensees are in compliance with their current licensing basis and existing NRC's regulations. The NRC will use the information submitted by licensees in response to the generic letter to determine if additional regulatory action is warranted.

DATES: The final generic letter is available as of June 29, 2015.

ADDRESSES: Please refer to Docket ID NRC-2014-0187 when contacting the NRC about the availability of information regarding this document. You may obtain publicly-available information related to this document using any of the following methods:

• Federal Rulemaking Web site: Go to http://www.regulations.gov and search for Docket ID NRC-2014-0187. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if that document is available in ADAMS) is provided the first time that a document is referenced.

• NRC's PDR: You may examine and purchase copies of public documents at the NRC's PDR, Room O1-F21, One White Flint North, 11555 Rockville Pike, Rockville, Maryland 20852.

• NRC's Public Web site: Generic Letter 2015-01 is available at http://www.nrc.gov/reading-rm/doc-collections/gen-comm/gen-letters/ (select “2015” and then select “gl201501”).

FOR FURTHER INFORMATION CONTACT: Jonathan Marcano, Office of Nuclear Materials Safety and Safeguards, U.S. Nuclear Regulatory Commission, Washington DC 20555-0001; telephone: 301-415-6731, email: Jonathan.Marcano@nrc.gov.

SUPPLEMENTARY INFORMATION: The NRC published a notice of opportunity for public comment on this generic letter in the Federal Register on August 8, 2014 (79 FR 46472). The NRC received two comments from Stephen McDuffie and the Nuclear Energy Institute. The two comments resulted in editorial changes to the generic letter. The evaluation of these comments and the resulting changes to the generic letter are discussed in a publicly-available document which is available in ADAMS under Accession No. ML14328A036.

The final generic letter is available in ADAMS under Accession No. ML14328A029.

Dated at Rockville, Maryland, this 22nd day of June, 2015.
For the U.S. Nuclear Regulatory Commission.
Marissa Bailey,
Director, Division of Fuel Cycle Safety, Safeguards, and Environmental Review Office of Nuclear Material Safety and Safeguards.

[FR Doc. 2015-15920 Filed 6-26-15; 8:45 am]

BILLING CODE 7590-01-P